DEPARTMENT OF ENERGY

Federal Energy Regulatory Commission

Combined Notice of Filings #1

Take notice that the Commission received the following electric corporate filings:

Docket Numbers: EC16-92-000.

Applicants: ITC Interconnection LLC.

Description: Application under Section 203 for Acquisition of Assets by ITC Interconnection LLC.

Filed Date: 3/24/16.

Accession Number: 20160324-5057.

Comments Due: 5 p.m. ET 4/14/16.

Take notice that the Commission received the following electric rate filings:

Docket Numbers: ER15-2239-003.

Applicants: NextEra Energy Transmission West, LLC.

Description: Compliance Filing of NextEra Energy Transmission West, LLC.

Filed Date: 3/23/16.

Accession Number: 20160323-5218.

Comments Due: 5 p.m. ET 4/13/16.

Docket Numbers: ER16-1265-000.

Applicants: California Independent System Operator Corporation.

Description: § 205(d) Rate Filing: 2016-03-23 Minimum Load PMin Rerate Bidding Rules Enhancements Amdt to be effective 5/23/2016.

Filed Date: 3/23/16.

Accession Number: 20160323-5195.

Comments Due: 5 p.m. ET 4/13/16.

Docket Numbers: ER16-1266-000.

Applicants: Midcontinent Independent System Operator, Inc.

Description: § 205(d) Rate Filing: 2016-03-24_Schedule 2 Revisions re Continuing Support for Reactive Power to be effective 4/1/2016.

Filed Date: 3/24/16.

Accession Number: 20160324-5071.

Comments Due: 5 p.m. ET 4/14/16.

Docket Numbers: ER16-1267-000.

Applicants: Southwestern Electric Power Company.

Description: § 205(d) Rate Filing: AECC East Fayetteville Delivery Point Agreement to be effective 3/1/2016.

Filed Date: 3/24/16.

Accession Number: 20160324-5145.

Comments Due: 5 p.m. ET 4/14/16.

Docket Numbers: ER16-1268-000.

Applicants: Southwest Power Pool, Inc.

Description: § 205(d) Rate Filing: 1067R6 East Texas Electric Cooperative NITSA and NOA to be effective 3/1/2016.

Filed Date: 3/24/16.

Accession Number: 20160324-5148.

Comments Due: 5 p.m. ET 4/14/16.

Docket Numbers: ER16-1269-000.

Applicants: PJM Interconnection, L.L.C.

Description: § 205(d) Rate Filing: Original Interconnection Service Agreement No. 4421, Queue No. Y3-039/Y3-040 to be effective 2/24/2016.

Filed Date: 3/24/16.

Accession Number: 20160324-5159.

Comments Due: 5 p.m. ET 4/14/16.

Take notice that the Commission received the following electric securities filings:

Docket Numbers: ES16-23-000.

Applicants: Southern Indiana Gas and Electric Company.

Description: Supplement to February 26, 2016 Application of Southern Indiana Gas and Electric Company, Inc. for Authority to Issue Short-Term Debt.

Filed Date: 3/24/16.

Accession Number: 20160324-5046.

Comments Due: 5 p.m. ET 4/14/16.

Docket Numbers: ES16-25-000.

Applicants: Midcontinent Independent System Operator, Inc.

Description: Application Under Section 204 of the Federal Power Act to Issue Securities of the Midcontinent Independent System Operator, Inc.

Filed Date: 3/24/16.

Accession Number: 20160324-5128.

Comments Due: 5 p.m. ET 4/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2016.
Nathaniel J. Davis, Sr.,
Deputy Secretary.

[FR Doc. 2016-07238 Filed 3-30-16; 8:45 am]

BILLING CODE 6717-01-P